DEPARTMENT OF ENERGY

Federal Energy Regulatory Commission

[Project No. 14867-003]

Scott's Mill Hydro, LLC; Notice of Application Ready for Environmental Analysis, and Soliciting Comments, Recommendations, Terms and Conditions, and Prescriptions

Take notice that the following hydroelectric application has been filed with the Commission and is available for public inspection.

a. Type of Application: Original Major License.

b. Project No.: 14867-003.

c. Date filed: March 21, 2022.

d. Applicant: Scott's Mill Hydro, LLC (Scott's Mill).

e. Name of Project: Scott's Mill Hydroelectric Project (Scott's Mill Project or project).

f. Location: On the James River in the City of Lynchburg and Bedford and Amherst Counties, Virginia.

g. Filed Pursuant to: Federal Power Act 16 U.S.C. 791(a)-825(r).

h. Applicant Contact: Mr. Mark Fendig, Luminaire Technologies, Inc., 9932 Wilson Highway, Mouth-of-Wilson, VA 24363; phone: (540) 320-6762.

i. FERC Contact: Jody Callihan at (202) 502-8278, or jody.callihan@ferc.gov.

j. Deadline for filing comments, recommendations, terms and conditions, and prescriptions: on or before 5:00 p.m. Eastern Time on July 21, 2025; reply comments are due on or before 5:00 p.m. Eastern Time on September 4, 2025.

The Commission strongly encourages electronic filing. Please file comments, recommendations, terms and conditions, and prescriptions using the Commission's eFiling system at https://www.ferc.gov/docs-filing/efiling.asp. Commenters can submit brief comments up to 6,000 characters, without prior registration, using the eComment system at https://www.ferc.gov/docs-filing/ecomment.asp. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Washington, DC 20426. Submissions sent via any other carrier must be addressed to: Debbie-Anne A. Reese, Secretary, Federal Energy Regulatory Commission, 12225 Wilkins Avenue, Rockville, Maryland 20852. All filings must clearly identify the project name and docket number on the first page: Scott's Mill Hydroelectric Project (P-14867-003).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. The Scott's Mill Hydroelectric Project would consist of: (1) an existing masonry dam containing two spillways separated by a 25-foot-wide stone pier, with one 735-foot-long, 15-foot-high overflow spillway and the other a 140-foot-long, 16-foot-high arch-section spillway; (2) an impoundment with a surface area of 305 acres at the normal pool elevation of 516.4 feet North American Vertical Datum of 1988 (NAVD 88); (3) a new modular powerhouse containing nine generating units with a total installed capacity of 4.5 megawatts that would be installed immediately downstream of the existing arch-section spillway of the dam; (4) a new 1,200-foot-long overhead transmission line; and (5) appurtenant facilities.

To increase flow through the modular powerhouse, Scott's Mill proposes to remove the top 6.8 feet of the existing arch-section spillway of the dam and add 2-foot-high flashboards to the existing overflow spillway. On August 9, 2022, Scott's Mill filed a Settlement Agreement for the project's licensing proceeding, on behalf of itself, the U.S. Fish and Wildlife Service (FWS), and Virginia Department of Wildlife Resources (Virginia DWR). As part of the Settlement Agreement, Scott's Mill proposes to: (1) operate the project in a run-of-river mode, with a 1-inch veil flow [~40 cubic feet per second (cfs)] over the main spillway at all times; (2) implement an impoundment refill protocol whereby 90% of the project inflow is released downstream when refilling the impoundment following a drawdown; (3) install and operate, from March 1 through November 30 of each year, two permanent fishways (one on each bank of the James River) to facilitate the upstream passage of American eel and sea lamprey, (4) install upstream passage for American shad and riverine (resident) fish species when requested by Interior; (5) provide a downstream fish passage flow of 225 cfs (parallel to the trash racks, with a 2-inch clear spacing) to guide fish towards a downstream fish passage structure; (6) install trash racks with a 0.75-inch clear spacing if the downstream fish passage effectiveness studies, planned for post-licensing, indicate the target downstream passage survival rate of 95% cannot be achieved with the proposed methods (i.e., a 225-cfs downstream fish passage flow and trash racks with a 2-inch clear spacing); (7) develop a fishway operation and maintenance plan, streamflow and water level monitoring plan, and recreation management plan; (8) implement the Invasive Species Management Plan, Northern Long-Eared Bat Management Plan, and Bald Eagle Management Plan filed with the Settlement Agreement; and (9) conduct the following post-licensing studies in cooperation with FWS and Virginia DWR: (a) upstream and downstream fish passage effectiveness, (b) water quality, and (c) wetted perimeter and flow demonstration. While not part of the Settlement Agreement, Scott's Mill also proposes, in its license application, to: (1) direct half of the powerhouse outflow to the main channel (i.e., to the east of Anthony Island); and (2) develop an erosion and sediment control plan and wetlands mitigation plan. The estimated annual energy production of the project is 20,700 megawatt-hours.

m. A copy of the application can be viewed on the Commission's website at http://www.ferc.gov using the “eLibrary” link. Enter the docket number excluding the last three digits in the docket number field to access the document (i.e., P-14867). For assistance, contact FERC Online Support (see item j above).

All filings must (1) bear in all capital letters the title “COMMENTS,” “REPLY COMMENTS,” “RECOMMENDATIONS,” “TERMS AND CONDITIONS,” or “PRESCRIPTIONS;” (2) set forth in the heading the name of the applicant and the project number of the application to which the filing responds; (3) furnish the name of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b) and 385.2010.

The Commission's Office of Public Participation (OPP) supports meaningful public engagement and participation in Commission proceedings. OPP can help members of the public, including landowners, community organizations, Tribal members, and others, access publicly available information and navigate Commission processes. For public inquiries and assistance with making filings such as interventions, comments, or requests for rehearing, the public is encouraged to contact OPP at (202) 502-6595 or OPP@ferc.gov.

You may also register online at https://ferconline.ferc.gov/FERCOnline.aspx to be notified via email of new filings and issuances related to this or other pending projects. For assistance, contact FERC Online Support (see item j above).

o. The applicant must file no later than 60 days following the date of issuance of this notice: (1) a copy of the water quality certification; (2) a copy of the request for certification, including proof of the date on which the certifying agency received the request; or (3) evidence of waiver of water quality certification.

p. Procedural Schedule:

The application will be processed according to the following schedule. Revisions to the schedule may be made as appropriate.

Milestone | Target date
Deadline for filing comments, recommendations, terms and conditions, and prescriptions | July 21, 2025.
Deadline for filing reply comments | September 4, 2025.

q. Final amendments to the application must be filed with the Commission no later than 30 days from the issuance date of this notice.

Dated: May 22, 2025.
Debbie-Anne A. Reese,
Secretary.

[FR Doc. 2025-09667 Filed 5-28-25; 8:45 am]

BILLING CODE 6717-01-P